DEPARTMENT OF COMMERCE

National Oceanic and Atmospheric Administration

50 CFR Part 679

[Docket No. 0910131362-0087-02]

RIN 0648-XA119

Fisheries of the Exclusive Economic Zone Off Alaska; Inseason Adjustment to the 2011 Gulf of Alaska Pollock and Pacific Cod Total Allowable Catch Amounts

AGENCY: National Marine Fisheries Service (NMFS), National Oceanic and Atmospheric Administration (NOAA), Commerce.

ACTION: Temporary rule; inseason adjustment; request for comments.

SUMMARY: NMFS is adjusting the 2011 total allowable catch (TAC) amounts for the Gulf of Alaska (GOA) pollock and Pacific cod fisheries. This action is necessary because NMFS has determined these TACs are incorrectly specified, and will ensure the GOA pollock and Pacific cod TACs are the appropriate amounts based on the best available scientific information for pollock and Pacific cod in the GOA. This action is consistent with the goals and objectives of the Fishery Management Plan for Groundfish of the Gulf of Alaska.

DATES: Effective 1200 hrs, Alaska local time (A.l.t.), January 5, 2011, until the effective date of the final 2011 and 2012 harvest specifications for GOA groundfish, unless otherwise modified or superseded through publication of a notification in the Federal Register.

Comments must be received at the following address no later than 4:30 p.m., A.l.t., January 20, 2011.

ADDRESSES: Send comments to James W. Balsiger, Administrator, Alaska Region, NMFS, Attn: Ellen Sebastian. You may submit comments, identified by RIN 0648-XA119, by any one of the following methods:

• Electronic Submissions: Submit all electronic public comments via the Federal eRulemaking Portal http://www.regulations.gov.

• Mail: P.O. Box 21668, Juneau, AK 99802.

• Fax: (907) 586-7557.

• Hand delivery to the Federal Building: 709 West 9th Street, Room 420A, Juneau, AK.

All comments received are a part of the public record. No comments will be posted to http://www.regulations.gov for public viewing until after the comment period has closed. Comments will generally be posted without change. All Personal Identifying Information (for example, name, address, etc.) voluntarily submitted by the commenter may be publicly accessible. Do not submit Confidential Business Information or otherwise sensitive or protected information.

NMFS will accept anonymous comments (enter N/A in the required fields, if you wish to remain anonymous). You may submit attachments to electronic comments in Microsoft Word, Excel, WordPerfect, or Adobe PDF file formats only.

FOR FURTHER INFORMATION CONTACT: Obren Davis, 907-586-7228.

SUPPLEMENTARY INFORMATION: NMFS manages the groundfish fishery in the GOA exclusive economic zone according to the Fishery Management Plan for Groundfish of the Gulf of Alaska (FMP) prepared by the North Pacific Fishery Management Council (Council) under authority of the Magnuson-Stevens Fishery Conservation and Management Act. Regulations governing fishing by U.S. vessels in accordance with the FMP appear at subpart H of 50 CFR part 600 and 50 CFR part 679.

The final 2010 and 2011 harvest specifications for groundfish in the GOA (75 FR 11749, March 12, 2010) set the 2011 pollock TAC at 109,105 metric tons (mt) and the 2011 Pacific cod TAC at 73,719 mt in the GOA. In December 2010, the Council recommended a 2011 pollock TAC of 96,215 mt for the GOA, which is less than the 109,105 mt established by the final 2010 and 2011 GOA harvest specifications. The Council also recommended a 2011 Pacific cod TAC of 65,100 mt for the GOA, which is less than the 73,719 mt established by the final 2010 and 2011 harvest specifications for groundfish in the GOA. The Council's recommended 2011 TACs, and the area and seasonal apportionments, are based on the Stock Assessment and Fishery Evaluation report (SAFE), dated November 2010, which NMFS has determined is the best available scientific information for these fisheries.

Steller sea lions occur in the same location as the pollock and Pacific cod fisheries and are listed as endangered under the Endangered Species Act (ESA). Pollock and Pacific cod are a principal prey species for Steller sea lions in the GOA. The seasonal apportionment of pollock and Pacific cod harvest is necessary to ensure the groundfish fisheries are not likely to cause jeopardy of extinction or adverse modification of critical habitat for Steller sea lions. The regulations at § 679.20(a)(5)(iv) specify how the pollock TAC will be apportioned. The regulations at § 679.20(a)(6)(ii) and § 679.20(a)(12)(i) specify how the Pacific cod TAC shall be apportioned.

In accordance with § 679.25(a)(2)(i)(B), the Administrator, Alaska Region, NMFS (Regional Administrator), has determined that, based on the November 2010 SAFE report for this fishery, the current GOA pollock and Pacific cod TACs are incorrectly specified. Consequently, pursuant to § 679.25(a)(1)(iii), the Regional Administrator is adjusting the 2011 GOA pollock TAC to 96,215 mt and the 2011 GOA Pacific cod TAC to 65,100 mt.

Pursuant to § 679.20(a)(5)(iv), Table 6 of the final 2010 and 2011 harvest specifications for groundfish in the GOA (75 FR 11749, March 12, 2010) is revised for the 2011 pollock TACs in the Western, Central, and Eastern GOA consistent with this adjustment.

Table 6—Final 2011 Distribution of Pollock in the Central and Western Regulatory Areas of the Gulf of Alaska; Percentage Seasonal Biomass Distribution, Area Apportionments; and Seasonal Allowances of Annual TAC
[Values are rounded to the nearest metric ton]
Season | Shumagin (Area 610) |  | Chirikof (Area 620) |  | Kodiak (Area 630) |  | Total ¹
A (Jan 20-Mar 10) | 4,786 | 22.62% | 11,895 | 56.22% | 4,475 | 21.15% | 21,159
B (Mar 10-May 31) | 4,786 | 22.62% | 14,231 | 67.26% | 2,139 | 10.11% | 21,158
C (Aug 25-Oct 1) | 8,729 | 41.25% | 5,619 | 26.55% | 6,812 | 32.19% | 21,158
D (Oct 1-Nov 1) | 8,729 | 41.25% | 5,619 | 26.55% | 6,812 | 32.19% | 21,158
Annual Total | 27,030 |  | 37,364 |  | 20,237 |  | 84,631
¹ The West Yakutat and Southeast Outside District pollock TACs (2,339 and 9,245, respectively) are not allocated by season and are not included in the total pollock TACs shown in this table.
Note: As established by § 679.23(d)(2)(i) through (iv), the A, B, C, and D season allowances are available from January 20 to March 10, March 10 to May 31, August 25 to October 1, and October 1 to November 1, respectively. The amounts of pollock for processing by the inshore and offshore components are not shown in this table.

Pursuant to § 679.20(a)(6)(ii) and § 679.20(a)(12)(i), Table 8 of the final 2010 and 2011 harvest specifications for groundfish in the GOA (75 FR 11749, March 12, 2010) is revised for the 2011 Pacific cod TACs in the Western, Central, and Eastern GOA consistent with this adjustment.

Table 8—Final 2011 Seasonal Apportionments and Allocation of Pacific Cod TAC Amounts in the Gulf of Alaska; Allocations for Processing by the Inshore and Offshore Components
[Values are rounded to the nearest metric ton]
Regulatory area | Season | TAC | Component allocation ¹: Inshore (90%) | Component allocation ¹: Offshore (10%)
Western | Annual | 22,785 | 20,506 | 2,279
| A season (60%) | 13,671 | 12,303 | 1,367
| B season (40%) | 9,114 | 8,202 | 911
Central | Annual | 40,362 | 36,326 | 4,036
| A season (60%) | 24,217 | 21,795 | 2,422
| B season (40%) | 16,145 | 14,530 | 1,614
Eastern | Annual | 1,953 | 1,758 | 195
| Total | 65,100 | 58,590 | 6,510
¹ Seasonal apportionments may not total precisely due to due to rounding.

Classification

This action responds to the best available information recently obtained from the fishery. The Assistant Administrator for Fisheries, NOAA (AA), finds good cause to waive the requirement to provide prior notice and opportunity for public comment pursuant to the authority set forth at 5 U.S.C. 553(b)(B) as such requirement is impracticable and contrary to the public interest. This requirement is impracticable and contrary to the public interest as it would prevent NMFS from responding to the most recent fisheries data in a timely fashion and would allow for harvests that exceed the appropriate allocations for Pacific cod based on the best scientific information available. NMFS was unable to publish a notice providing time for public comment because the most recent, relevant data only became available as of December 15, 2010, and additional time for prior public comment would result in conservation concerns for the ESA-listed Steller sea lions.

The AA also finds good cause to waive the 30-day delay in the effective date of this action under 5 U.S.C. 553(d)(3). This finding is based upon the reasons provided above for waiver of prior notice and opportunity for public comment.

Under § 679.25(c)(2), interested persons are invited to submit written comments on this action to the above address until January 20, 2011.

This action is required by § 679.22 and § 679.25 and is exempt from review under Executive Order 12866.

Authority: 16 U.S.C. 1801 et seq.

Dated: December 29, 2010.
Emily H. Menashes,
Acting Director, Office of Sustainable Fisheries, National Marine Fisheries Service.

[FR Doc. 2010-33308 Filed 12-30-10; 4:15 pm]

BILLING CODE 3510-22-P